DEPARTMENT OF AGRICULTURE

Submission for OMB Review; Comment Request

December 4, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by January 9, 2019 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Small Lots of Seeds Without Phytosanitary Certificates.

OMB Control Number: 0579-0285.

Summary of Collection: Under the Plant Protection Act (PPA) (7 U.S.C. 7701-7772), the Secretary of Agriculture is authorized to prohibit or restrict the importation, entry, or movement of plants and plant pests to prevent the introduction of plant pests into the United States or their dissemination within the United States. The regulations contained in 7 CFR 319.37 prohibit or restrict the importation of living plants, plant parts, and seed for propagation. These regulations further allow small lots of seed to be imported into the United States under an import permit with specific conditions, including seed packet labeling, as an alternative to a phytosanitary certificate requirement.

Need and Use of the Information: The APHIS Plant Protection and Quarantine Program will collect information using applications for import permit submitted by persons wishing to import small lots of seed. The application provides contact information as well as specifics about the regulated article such as the country of origin, the quantity and names of articles, means of importation, and their port of entry arrival. Packets and containers must have labels and markings clearly describing the contents of seed packets; and sender, permit, and destination information. Importers are also required to notify the port of entry of pending shipment arrivals, and respond to emergency action notifications for shipments held at the port for further action. Without the information APHIS could not verify that imported items do not present significant risk of introducing plant pests and plant disease into the United States.

Description of Respondents: Individuals or households; Business or other for-profit.

Number of Respondents: 2,376.

Frequency of Responses: Reporting, Third Party Disclosure: On occasion.

Total Burden Hours: 18,732.

Animal and Plant Health Inspection Service

Title: Importation of Swine Hides, Bird Trophies, and Deer Hides.

OMB Control Number: 0579-0307.

Summary of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of Public Law 107-171, May 13, 2002, the Farm Security and Rural Investment Act of 2002. The Animal and Plant Health Inspection Service (APHIS) protects the health of the U.S. livestock and poultry population. Title 9 of the Code of Federal Regulations, parts 91 through 99, governs the importation of animals, birds, and poultry, certain animal and poultry products; and animal germplasm. These regulations place certain restrictions on the importation of hides and bird trophies to prevent an incursion of foreign animal diseases into the United States.

Need and Use of the Information: APHIS will collect information from forms, certificates, and written statements, to ensure that bird trophies and certain animal hides pose a negligible risk of introducing African Swine Fever, Bovine Babesiosis, Exotic Newcastle Disease, Foot-and Mouth Disease, Highly Pathogenic Avian Influenza, and Rinderpest into the United States. If this information is not collected, it would significantly hinder APHIS's ability to ensure that these commodities pose a minimal risk of introducing foreign animal diseases into the United States.

Description of Respondents: State, Local or Tribal Government; Business or other for-profit.

Number of Respondents: 264.

Frequency of Responses: Reporting; On occasion.

Total Burden Hours: 284.

Ruth Brown,
Departmental Information Collection Clearance Officer.

[FR Doc. 2018-26610 Filed 12-7-18; 8:45 am]

BILLING CODE 3410-34-P